DEPARTMENT OF TRANSPORTATION

Federal Aviation Administration

14 CFR Part 39

[Docket No. FAA-2022-0292; Project Identifier AD-2021-01297-E; Amendment 39-22184; AD 2022-19-15]

RIN 2120-AA64

Airworthiness Directives; International Aero Engines, LLC Turbofan Engines

AGENCY: Federal Aviation Administration (FAA), DOT.

ACTION: Final rule; correction.

SUMMARY: The FAA is correcting an airworthiness directive (AD) that published in the Federal Register. That AD applies to certain International Aero Engines, LLC (IAE LLC) PW1122G-JM, PW1124G1-JM, PW1124G-JM, PW1127G1-JM, PW1127GA-JM, PW1127G-JM, PW1129G-JM, PW1130G-JM, PW1133GA-JM, and PW1133G-JM model turbofan engines. The table numbers of the service information referenced in paragraphs (g)(2) and (3) are incorrect. This document corrects those errors. In all other respects, the original document remains the same.

DATES: This correction is effective November 7, 2022. The effective date of AD 2022-19-15 remains November 7, 2022.

ADDRESSES:

AD Docket: You may examine the AD docket at regulations.gov by searching for and locating Docket No. FAA-2022-0292, or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Pratt & Whitney service information identified in this final rule, contact International Aero Engines, LLC, 400 Main Street, East Hartford, CT 06118; phone: (860) 690-9667; email: help24@pw.utc.com; website: connect.prattwhitney.com.

• You may view this service information at the FAA, Airworthiness Products Section, Operational Safety Branch, 1200 District Avenue, Burlington, MA 01803. For information on the availability of this material at the FAA, call (817) 222-5110.

FOR FURTHER INFORMATION CONTACT: Mark Taylor, Aviation Safety Engineer, ECO Branch, FAA, 1200 District Avenue, Burlington, MA 01803; phone: (781) 238-7229; email: Mark.Taylor@faa.gov.

SUPPLEMENTARY INFORMATION: AD 2022-19-15, Amendment 39-22184 (AD 2022-19-15), requires performing an ultrasonic inspection (USI) of the high-pressure turbine (HPT) 1st-stage disk and HPT 2nd-stage disk and, depending on the results of the inspections, replacement of the HPT 1st-stage disk or HPT 2nd-stage disk for certain IAE LLC PW1122G-JM, PW1124G1-JM, PW1124G JM, PW1127G1-JM, PW1127GA-JM, PW1127G-JM, PW1129G-JM, PW1130G-JM, PW1133GA-JM, and PW1133G-JM model turbofan engines.

Need for the Correction

As published, the table numbers of the service information referenced in Required Actions, paragraphs (g)(2) and (3) of AD 2022-19-15, are incorrect. The table numbers are incorrectly referenced in paragraphs (g)(2) and (3) as “Table 2.” and “Table 3.,” of Pratt & Whitney Service Bulletin (SB) PW1000G-C-72-00-0188-00A-930A-D, Issue No: 002, dated July 8, 2022. The correct table number for paragraph (g)(2) is “Table 3.” and for paragraph (g)(3) is “Table 4.,” of PW SB PW1000G-C-72-00-0188-00A-930A-D.

No other part of the preamble or regulatory information has been changed; for convenience, the entire rule is being republished.

The effective date of this AD remains November 7, 2022.

Related Service Information Under 1 CFR Part 51

The FAA reviewed Pratt & Whitney SB PW1000G-C-72-00-0188-00A-930A-D, Issue No: 002, dated July 8, 2022. This service information specifies procedures for performing a USI of the HPT 1st-stage disk and the HPT 2nd-stage disk, identified by part number and serial number, installed on IAE LLC PW1124G1-JM, PW1127G-JM, PW1127GA-JM, PW1129G-JM, PW1130G-JM, PW1133G-JM, and PW1133GA-JM model turbofan engines. This service information is reasonably available because the interested parties have access to it through their normal course of business or by the means identified in ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) by correcting 87 FR 59660 (October 3, 2022) beginning at page 59663, column 3 as follows:

PART 39—AIRWORTHINESS DIRECTIVES

1. The authority citation for part 39 continues to read as follows:

Authority: 49 U.S.C. 106(g), 40113, 44701.

§ 39.13 [Corrected]

2. The FAA corrects § 39.13 by correcting the following airworthiness directive to read:

2022-19-15 International Aero Engines, LLC: Amendment 39-22184; Docket No. FAA-2022-0292; Project Identifier AD-2021-01297-E.

(a) Effective Date

This airworthiness directive (AD) is effective November 7, 2022.

(b) Affected ADs

None.

(c) Applicability

This AD applies to International Aero Engines, LLC PW1122G-JM, PW1124G1-JM, PW1124G-JM, PW1127G1-JM, PW1127GA-JM, PW1127G-JM, PW1129G-JM, PW1130G-JM, PW1133GA-JM, and PW1133G-JM model turbofan engines with an installed:

(1) High-pressure turbine (HPT) 1st-stage disk, part numbers (P/Ns) 30G4201, 30G6201, or 30G7301; and

(2) HPT 2nd-stage disk, P/Ns 30G3902, 30G5502, or 30G6602.

(d) Subject

Joint Aircraft System Component (JASC) Code 7250, Turbine Section.

(e) Unsafe Condition

This AD was prompted by an analysis of an event involving an International Aero Engines AG V2533-A5 model turbofan engine, which experienced an uncontained failure of an HPT 1st-stage disk that resulted in high-energy debris penetrating the engine cowling. The FAA is issuing this AD to prevent failure of the HPT 1st-stage disk and HPT 2nd-stage disk. The unsafe condition, if not addressed, could result in uncontained HPT disk failure, release of high-energy debris, damage to the engine, damage to the airplane, and loss of the airplane.

(f) Compliance

Comply with this AD within the compliance times specified, unless already done.

(g) Required Actions

(1) For affected engines that have not incorporated Pratt & Whitney (PW) Service Bulletin (SB) PW1000G-C-72-00-0112-00A-930A-D, at the next engine shop visit after the effective date of this AD, perform the following:

(i) Ultrasonic inspection (USI) of the HPT 1st-stage disk using the Accomplishment Instructions, paragraph 9.A. or B., as applicable, of PW SB PW1000G-C-72-00-0188-00A-930A-D, Issue No: 002, dated July 8, 2022 (PW SB PW1000G-C-72-00-0188-00A-930A-D); and

(ii) USI of the HPT 2nd-stage disk using the Accomplishment Instructions, paragraph 9.C. or D., as applicable, of PW SB PW1000G-C-72-00-0188-00A-930A-D.

(2) For affected engines that have incorporated PW SB PW1000G-C-72-00-0112-00A-930A-D, with an installed HPT 1st-stage disk having a serial number (S/N) identified in the Accomplishment Instructions, Table 3., of PW SB PW1000G-C-72-00-0188-00A-930A-D, at the next engine shop visit after the effective date of this AD, perform a USI of the HPT 1st-stage disk using the Accomplishment Instructions, paragraph 9.A. or B., as applicable, of PW SB PW1000G-C-72-00-0188-00A-930A-D.

(3) For affected engines that have incorporated PW SB PW1000G-C-72-00-0112-00A-930A-D, with an installed HPT 2nd-stage disk having an S/N identified in the Accomplishment Instructions, Table 4., of PW SB PW1000G-C-72-00-0188-00A-930A-D, at the next engine shop visit after the effective date of this AD, perform a USI of the HPT 2nd-stage disk using the Accomplishment Instructions, paragraph 9.C. or D., of PW SB PW1000G-C-72-00-0188-00A-930A-D.

(4) Based on the results of the USIs required by paragraphs (g)(1) through (3) of this AD, if any HPT 1st-stage disk or HPT 2nd-stage disk does not pass the USI, as specified in the Accomplishment Instructions, paragraphs 9.A. through D., of PW SB PW1000G-C-72-00-0188-00A-930A-D, as applicable, before further flight, remove the HPT 1st-stage disk or HPT 2nd-stage disk from service and replace with a part eligible for installation.

(5) For affected engines that have incorporated PW SB PW1000G-C-72-00-0112-00A-930A-D and do not require an inspection per paragraph (g)(2) or (3) of this AD, no further action is required.

(h) Definitions

(1) For the purpose of this AD, a “part eligible for installation” is:

(i) Any HPT 1st-stage disk that has passed the USI required by paragraphs (g)(1)(i) or (g)(2) of this AD.

(ii) Any HPT 2nd-stage disk that has passed the USI required by paragraphs (g)(1)(ii) or (g)(3) of this AD.

(iii) Any HPT 1st-stage disk that has incorporated PW SB PW1000G-C-72-00-0112-00A-930A-D and does not require an inspection per paragraph (g)(2) of this AD.

(iv) Any HPT 2nd-stage disk that has incorporated PW SB PW1000G-C-72-00-0112-00A-930A-D and does not require an inspection per paragraph (g)(3) of this AD.

(v) Any HPT 1st-stage disk or HPT 2nd-stage disk with a certificate of conformance that shows “PW1000G-C-72-00-0188-00A-930A-D,” “1 CODE 45S,” or identified by part marking “21CC332” or “SB 72-0188.”

(2) For the purpose of this AD, an “engine shop visit” is the induction of an engine into the shop for maintenance involving the separation of the “M” flange. Separation of the “M” flange solely for the purposes of transportation without subsequent engine maintenance does not constitute an engine shop visit.

(i) Credit for Previous Actions

You may take credit for the USIs required by paragraphs (g)(1) through (3) of this AD if you performed the USIs before the effective date of this AD using PW SB PW1000G-C-72-00-0188-00A-930A-D, Issue No: 001, dated September 13, 2021.

(j) Installation Prohibition

After the effective date of this AD, do not install onto any engine an HPT 1st-stage disk or HPT 2nd-stage disk that does not meet the definition of a part eligible for installation in paragraph (h)(1) of this AD.

(k) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD and email to: ANE-AD-AMOC@faa.gov.

(2) Before using any approved AMOC, notify your appropriate principal inspector, or lacking a principal inspector, the manager of the local flight standards district office/certificate holding district office.

(l) Related Information

(1) For more information about this AD, contact Mark Taylor, Aviation Safety Engineer, ECO Branch, FAA, 1200 District Avenue, Burlington, MA 01803; phone: (781) 238-7229; email: Mark.Taylor@faa.gov.

(2) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Service Bulletin PW1000G-C-72-00-0188-00A-930A-D, Issue No: 002, dated July 8, 2022.

(ii) [Reserved]

(3) For Pratt & Whitney service information identified in this AD, contact International Aero Engines, LLC, 400 Main Street, East Hartford, CT 06118; phone: (860) 690-9667; email: help24@pw.utc.com; website: connect.prattwhitney.com.

(4) You may view this service information at FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on October 20, 2022.
Christina Underwood,
Acting Director, Compliance & Airworthiness Division, Aircraft Certification Service.

[FR Doc. 2022-23168 Filed 10-20-22; 11:15 am]

BILLING CODE 4910-13-P